DEPARTMENT OF HEALTH AND HUMAN SERVICES

Health Resources and Services Administration

National Advisory Council on the National Health Service Corps; Notice of Meeting

In accordance with section 10(a)(2) of the Federal Advisory Committee Act (Public Law 92-463), notice is hereby given of the following meeting:

Name: National Advisory Council on the National Health Service Corps.

Dates and Times: June 28, 2006, 1 p.m.-5 p.m.; June 29, 2006, 9 a.m.-5 p.m.; and June 30, 2006, 9 a.m.-4:30 p.m.

Place: Embassy Suites DC Convention Center, 900 10th Street, NW., Washington, DC 20001.

Status: The meeting will be open to the public.

Agenda: The Council will be working on a report outlining some recommendations for the National Health Service Corps Program. Discussions will be focused on the impact of these recommendations on the program participants, communities served by these clinicians and in the administration of the program.

For Further Information Contact: Tira Robinson-Patterson, Division of National Health Service Corps, Bureau of Health Professions, Health Resources and Services Administration, Parklawn Building, Room 8A-55, 5600 Fishers Lane, Rockville, MD 20857; telephone: (301) 594-4140.

Dated: May 22, 2006.
Tina M. Cheatham,
Director, Division of Policy Review and Coordination.

[FR Doc. E6-8285 Filed 5-26-06; 8:45 am]

BILLING CODE 4165-15-P